ENVIRONMENTAL PROTECTION AGENCY

[OEI-2005-0015; FRL-7997-2]

Office of Environmental Information; Request for Comment and Request for Information on System Requirements Document for Environmental Terminology Services

AGENCY: Environmental Protection Agency.

ACTION: Request for comment and request for information.

SUMMARY: The U.S. Environmental Protection Agency is seeking to redesign its current Terminology Reference System (TRS) [see http://www.epa.gov/trs ] in order to better support future semantic Web needs, increase usability and integrate with other systems for enterprise-wide content management, search, and portal development. The agency has established the following requirements and is interested in receiving comments and information from potential bidders and experts in the field regarding these requirements.

DATES: Comments and or information must be submitted on or before November 28, 2005.

FOR FURTHER INFORMATION CONTACT: Linda Spencer; Environmental Protection Agency; 1200 Pennsylvania Avenue, MC 2822T; Washington, DC 20460; Phone: 202-566-1651; Fax: 202-566-1624; E-mail: Spencer.linda@epa.gov.

SUPPLEMENTARY INFORMATION: The Agency is seeking a commercial off-the-shelf (COTS) and/or Government off-the-shelf (GOTS) software package(s) to match the user/system requirements. The Agency will also consider customization of a COTS/GOTS and the integration of several COTS/GOTS products.

Part of EPA's vision is to see the TRS evolve from being just a terminology repository, into a suite of Environmental Terminology Services (ETS). It will always remain a repository for environmental terminology and terminology structures (taxonomies, thesauri, ontologies, dictionaries, etc.). However, the environmental terminology contained in the repository will be enriched. Through use and curation, the TRS will evolve from a term-based system to a concept-based system. The concepts the ETS contains, along with their terms and definitions, will have sufficient metadata to enable those concepts to be used as the building blocks for the creation of business-driven Agency terminology structures (taxonomies, thesauri, etc.) The repository will also contain an authoritative controlled vocabulary for the Agency which can serve in the creation of glossaries for Web pages and documents, a common vocabulary for search engines, and in the development of rules and regulations.

I. General Information

A. How Can I Get Copies of These Documents and Other Related Information?

1. Docket. EPA has established an official public docket for this action under Docket ID No. OEI-2005-0015. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B. Once in the system, select “search,” then key in the appropriate docket identification number.

Dated: November 3, 2005.
Oscar Morales,
Division Director, Collection Strategies Division, Office of Information Collection, U.S. Environmental Protection Agency.

[FR Doc. 05-22703 Filed 11-15-05; 8:45 am]

BILLING CODE 6560-50-P